DEPARTMENT OF THE INTERIOR

National Park Service

[NPS-WASO-NAGPRA-NPS0025137; PPWOCRADN0-PCU00RP14.R50000]

Notice of Inventory Completion: New York University College of Dentistry, New York City, NY

AGENCY: National Park Service, Interior.

ACTION: Notice.

SUMMARY: The New York University (NYU) College of Dentistry has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the NYU College of Dentistry. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the NYU College of Dentistry at the address in this notice by May 4, 2018.

ADDRESSES: Dr. Louis Terracio, NYU College of Dentistry, 345 East 24th Street, New York, NY 10010, telephone (212) 998-9717, email louis.terracio@nyu.edu.

SUPPLEMENTARY INFORMATION: Notice is here given in accordance with the Native American Graves Protection and Repatriation Act (NAGPRA), 25 U.S.C. 3003, of the completion of an inventory of human remains under the control of the NYU College of Dentistry, New York City, NY. The human remains were removed from multiple sites in Davidson and Williamson counties, TN.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the NYU College of Dentistry professional staff in consultation with representatives of the Cherokee Nation, Eastern Band of Cherokee Indians, The Chickasaw Nation, and United Keetoowah Band of Cherokee Indians in Oklahoma. Pursuant to 43 CFR 10.11(b)(5), the NYU College of Dentistry discussed a proposed disposition, and all four tribes determined that The Chickasaw Nation would take the lead on the reburial for all of the human remains described below.

History and Description of the Remains

Between 1868 and 1869, human remains representing, at minimum, 14 individuals were removed by Dr. Joseph Jones of Nashville, TN, from several mound and earthwork sites in the State of Tennessee. Dr. Jones kept ledgers that illustrated and described many of the human remains and objects that he collected. He published the results of his excavations in Volume 22 of the Smithsonian Contributions to Knowledge. In 1906, Dr. Jones' widow sold his collection, including the human remains from Tennessee, to the Museum of the American Indian, Heye Foundation. In 1956, the Museum of the American Indian transferred some of the crania and mandibles from Jones' excavations to Dr. Theodore Kazamiroff of the NYU College of Dentistry.

The human remains under the control of the NYU College of Dentistry represent the following: Three adults of indeterminate sex and two adult males from the East Nashville Mounds site (40Dv4) in Davidson County, TN; one adult female removed from the Gordontown site (40Dv6) in Davidson County, TN; one older adult male, one adult male, one probable adult female, and one older adult of indeterminate sex removed from the Old Town site (40Wm2) in Williamson County, TN; and two older adults of indeterminate sex, one older adult male, and one young adult female removed from the DeGraffenreid site (40Wm4), in Williamson County, TN. No known individuals were identified. No associated funerary objects are present.

The human remains described in this notice have been determined to be Native American through a combination of collector records, site information, and forensic data. In his catalog, Jones identifies the remains as Native American. The graves from which the human remains were removed all predate European contact, and therefore the human remains are assumed to be Native American based on their age. During forensic examination, diagnostic features of Native American individuals were identified.

Each of the sites listed in this notice date to the Thruston phase (A.D. 1250-1450), based on the burial styles, artifacts, radiocarbon dating, Tennessee site file information, and archeological literature. The sites and the surrounding region were abandoned by A.D. 1450. During consultations, tribal representatives identified the area as the ancestral lands of southeastern Indian Tribes, but noted that there is difficulty in establishing a specific cultural affiliation due to the complexity of the region, broadly shared material culture, and the lack of information to trace specific migrations out of the region after A.D. 1450.

Historically, the land from which the human remains were removed was claimed by both the Cherokee and the Chickasaw peoples. The 1785 Treaty of Hopewell officially delineated the boundary between the Cherokee and Chickasaw lands. The Cherokee retained rights to land that included modern-day Davidson County, TN, and most of modern-day Williamson County, TN. The Chickasaw retained rights to land in the southern and western portions of modern-day Williamson County, TN. Both the Cherokee and Chickasaw ceded their lands in Davidson and/or Williamson counties, TN, to the U.S. Government in the Treaty of 1805.

Determinations Made by the NYU College of Dentistry

Officials of the NYU College of Dentistry have determined that:

• Pursuant to 25 U.S.C. 3001(9), the human remains described in this notice are Native American.

• Pursuant to 25 U.S.C. 3001(9), the human remains described in this notice represent the physical remains of, at a minimum, 14 individuals of Native American ancestry.

• Pursuant to 25 U.S.C. 3001(2), a relationship of shared group identity cannot be reasonably traced between the Native American human remains and any present-day Indian Tribe.

• Treaties indicate that the land from which the Native American human remains were removed is the aboriginal land of the Cherokee Nation, Eastern Band of Cherokee Indians, and United Keetoowah Band of Cherokee Indians in Oklahoma.

• Pursuant to 43 CFR 10.11(c)(1), the disposition of the human remains may be to the Cherokee Nation, Eastern Band of Cherokee Indians, and United Keetoowah Band of Cherokee Indians in Oklahoma and, if joined to one or more of the afore-mentioned aboriginal land tribes, The Chickasaw Nation.

Additional Requestors and Disposition

Representatives of any Indian Tribe or Native Hawaiian organization not identified in this notice that wish to request transfer of control of these human remains should submit a written request with information in support of the request to Dr. Louis Terracio, NYU College of Dentistry, 345 East 24th Street, New York, NY 10010, telephone (212) 998-9717, email louis.terracio@nyu.edu, by May 4, 2018. After that date, if no additional requestors have come forward, transfer of control of the human remains to the Cherokee Nation, Eastern Band of Cherokee Indians, United Keetoowah Band of Cherokee Indians in Oklahoma, and, if joined to one or more of the afore-mentioned aboriginal land tribes, The Chickasaw Nation, may proceed.

The NYU College of Dentistry is responsible for notifying the Cherokee Nation, Eastern Band of Cherokee Indians, The Chickasaw Nation, and United Keetoowah Band of Cherokee Indians in Oklahoma that this notice has been published.

Dated: February 28, 2018.
Melanie O'Brien,
Manager, National NAGPRA Program.

[FR Doc. 2018-06828 Filed 4-3-18; 8:45 am]

BILLING CODE 4312-52-P